DEPARTMENT OF DEFENSE

Office of the Secretary

Publication of Housing Price Inflation Adjustment

AGENCY: Office of the Under Secretary (Personnel and Readiness), Department of Defense.

ACTION: Notice.

SUMMARY: The Servicemembers Civil Relief Act, as codified at 50 U.S.C. App. 531, prohibits a landlord from evicting a Service member (or the Service member's family) from a residence during a period of military service except by court order. The law as originally passed by Congress applied to dwellings with monthly rents of $2400 or less. The law requires the Department of Defense to adjust this amount annually to reflect inflation and to publish the new amount in the Federal Register. We have applied the inflation index required by the statute. The maximum monthly rental amount for 50 U.S.C. App. 531(a)(1)(A)(ii) is $2,975.54.

DATES: Effective Date: January 1, 2011.

FOR FURTHER INFORMATION CONTACT: Colonel Shawn Shumake, Office of the Under Secretary of Defense for Personnel and Readiness, (703) 697-3387.

Dated: July 29, 2011.
Aaron Siegel,
Alternate OSD Federal Register Liaison Officer, Department of Defense.

[FR Doc. 2011-19722 Filed 8-3-11; 8:45 am]

BILLING CODE 5001-06-P